INTERNATIONAL TRADE COMMISSION

[Investigation 332-426]

Natural Gas Services: Recent Reforms in Selected Markets

AGENCY: United States International Trade Commission.

ACTION: Institution of investigation.

EFFECTIVE DATE: February 8, 2001.

SUMMARY: Following receipt of a request on January 16, 2001, from the United States Trade Representative (USTR), the Commission instituted investigation No. 332-426, Natural Gas Services: Recent Reforms in Selected Markets, under section 332(g) of the Tariff Act of 1930 (19 U.S.C. 1332(g)).

FOR FURTHER INFORMATION CONTACT: Information specific to this investigation may be obtained from Mr. Christopher Melly, Project Leader (202-205-3461; cmelly@usitc.gov), Ms. Joann Tortorice, Deputy Project Leader (202-205-3032; jtortorice@usitc.gov), or Mr. Richard Brown, Chief, Services and Investment Division (202-205-3438; rbrown@usitc.gov), Office of Industries, U.S. International Trade Commission, Washington, DC, 20436. For information on the legal aspects of this investigation, contact William Gearhart of the Office of the General Counsel (202-205-3091; wgearhart@usitc.gov). Hearing impaired individuals are advised that information on this matter can be obtained by contacting the TDD terminal on (202) 205-1810.

Background

In a letter dated January 16, 2001, the USTR requested that the Commission, pursuant to section 332(g) of the Tariff Act of 1930, conduct an investigation of the natural gas services markets in countries where significant market reform, privatization, and liberalization has occurred or is ongoing. The foreign markets to be examined are: Argentina, Australia, Brazil, Canada, Korea, Japan, Mexico, Spain, and the United Kingdom. As requested, in its report, the Commission will (1) describe the nature of reform, including, but not limited to the extent of privatization, vertical and horizontal restructuring, and consumer choice, as applicable; (2) examine current market access conditions, including, but not limited to measures affecting network access, investment, and trading (i.e., the exchange of natural gas contracts through financial markets), as applicable; and (3) identify common regulatory practices adopted by multiple countries, insofar as they exist. For the purpose of this study, natural gas services will focus on the downstream natural gas market, including the following segments: transmission (including transport and storage); distribution; wholesale and retail supply; and trading.

This letter follows a similar request made by the USTR in November 1999 for the Commission to conduct an investigation of the electric power services markets in Argentina, Australia, Brazil, Canada, Chile, the European Union, Japan, New Zealand, and Venezuela. The Commission submitted its report to the USTR on November 23, 2000, copies of which may be obtained by contacting the Office of the Secretary at 202-205-2000 or by accessing the USITC Internet server (http://www.usitc.gov). The USTR asked that the Commission furnish the natural gas report by October 16, 2001, and that the Commission make the report available to the public in its entirety.

Public Hearing

A public hearing in connection with the investigation will be held at the U.S. International Trade Commission Building, 500 E Street SW, Washington, DC, beginning at 9:30 a.m. on April 3, 2001. All persons shall have the right to appear, by counsel or in person, to present information and to be heard. Requests to appear at the public hearing should be filed with the Secretary, United States International Trade Commission, 500 E Street SW, Washington, DC 20436, no later than 5:15 p.m., March 20, 2001. Any prehearing briefs (original and 14 copies) should be filed not later than 5:15 p.m., March 22, 2001; the deadline for filing post-hearing briefs or statements is 5:15 p.m., April 25, 2001. In the event that, as of the close of business on March 20, 2001, no witnesses are scheduled to appear at the hearing, the hearing will be canceled. Any person interested in attending the hearing as an observer or non-participant may call the Secretary of the Commission (202-205-1806) after March 20, 2001, to determine whether the hearing will be held.

Written Submissions

In lieu of or in addition to participating in the hearing, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available in the Office of the Secretary of the Commission for inspection by interested parties. To be assured of consideration by the Commission, written statements relating to the Commission's report should be submitted to the Commission at the earliest practical date and should be received no later than the close of business on April 25, 2001. All submissions should be addressed to the Secretary, United States International Trade Commission, 500 E Street SW, Washington, DC 20436. The Commission's rules do not authorize filing submissions with the Secretary by facsimile or electronic means. Persons with mobility impairments who will need special assistance in gaining access to the Commission should contact the Office of the Secretary at 202-205-2000. General information concerning the Commission may also be obtained by accessing its Internet server (http://www.usitc.gov).

List of Subjects

WTO, GATS, Energy services, Market access, Natural gas, Trade in services.

Issued: February 9, 2001.
By order of the Commission.
Donna R. Koehnke,
Secretary.

[FR Doc. 01-3891 Filed 2-15-01; 8:45 am]

BILLING CODE 7020-02-P